DEPARTMENT OF TRANSPORTATION

Federal Aviation Administration

Notice of Intent To Designate as Abandoned Certain Type Certificates Issued in the Restricted Category: International Helicopters, H5S0; Smith Helicopters, H8NM; Invest In Opportunities, Inc., H9WE; Helitech Corporation, H12WE; Pacific Aviation, H15WE; Joe G. Marrs, H2SO; Glacier Helicopter, Inc., H21NM; Charles D. Linza, H4WE; Sterling Aircraft Industries, H7WE; Heli Crane Corporation, HR-35; Lassen Air, H11WE; U.S. Helicopter, R00009AT

AGENCY: Federal Aviation Administration (FAA), DOT.

ACTION: Notice of intent to designate certain type certificates issued in the restricted category as abandoned; request for comments.

SUMMARY: This notice announces the FAA's intent to designate each of the above-cited Type Certificates issued in the Restricted Category (RCTC) as abandoned. The FAA has been unable to locate these RCTC holders concerning the continued airworthiness of the aircraft certificated under their type certificates. The Federal Aviation Regulations (FARs) require that type certificate (TC) holders report certain failures, malfunctions, and defects to the FAA. The FARs also require, upon request, that TC holders submit design changes to the FAA that are necessary to correct any unsafe condition in their products. The FAA has been unsuccessful in its attempt to contact each of the above listed TC holders by certified mail, by telephone, and Internet search. The FAA is responsible for surveillance of the RCTC holder's ability to perform continued operational safety (COS) management and oversight of each helicopter on their TC. This action is intended to ensure that each individual RCTCed helicopter is under a TC that has active COS management and oversight by a TC holder that can be subject to periodic safety audits by the FAA.

DATES: Comments must be received on or before October 7, 2003.

ADDRESSES: Comments on this notice must be submitted to the Federal Aviation Administration, Safety Management Group, ASW-112, Rotorcraft Directorate, Fort Worth, Texas 76193-0112 or electronically to Charles.C.Harrison@faa.gov.

FOR FURTHER INFORMATION CONTACT: Charles Harrison, Aerospace Engineer, FAA, Rotorcraft Directorate, Aircraft Certification Service, Fort Worth, Texas 76193-0112, telephone (817) 222-5128, fax (817) 222-5961.

SUPPLEMENTARY INFORMATION: This notice is intended to inform the public of the FAA's intent to designate certain Type Certificates issued in the Restricted Category as being abandoned and that no additional original airworthiness certificates will be issued against these type certificates (TC) designated as abandoned. The FAA has been unable to locate these TC holders concerning the continued airworthiness of the aircraft certificated under their type certificates. Among other regulatory requirements, 14 CFR 21.3 requires TC holders to report certain failures, malfunctions, and defects to the FAA; and 14 CFR 21.99 requires, upon request, that TC holders submit design changes that are necessary to correct any unsafe condition in their products. To date, the FAA has been unsuccessful in its attempts to locate each of the above listed TC holders by certified mail, by telephone, and Internet search. The FAA is responsible for surveillance of the RCTC holder's ability to perform continued operational safety (COS) management and oversight of each helicopter on their TC. This action is not intended as a surrender, suspension, revocation, or termination of any TC as those terms are used in 14 CFR part 21. However, this action is intended to ensure that each individual RCTCed helicopter is under a TC that has active COS management and oversight by a TC holder that can be subject to periodic safety audits by the FAA. Periodic safety audits that the FAA performs on these TC holder's compliance with the FAA safety regulations relating to continued airworthiness of their helicopters cannot be accomplished if they cannot be located.

Interested parties are invited to provide comments, written data, views, or arguments relating to this notice. Comments should be submitted in duplicate to the address specified above. All comments received on or before the closing date will be considered. All comments received will be available in the docket for examination by interested persons. Comments may be inspected at the office of the FAA, Rotorcraft Safety Management Group, Rotorcraft Directorate, 4th Floor, 2601 Meacham Boulevard, Fort Worth, Texas, between 9 a.m. and 4 p.m. Monday through Friday, except Federal holidays.

Background: Since the issuance of many of the RCTC's, there have been a large number of significant service difficulties that have been discovered on various models of surplus military aircraft certificated in the restricted category, particularly under 14 CFR 21.25. Some of these service difficulties have resulted in fatalities and led to the discovery of various continued operational safety problems in this fleet. Based on the numbers of significant service difficulties that are being discovered in the RCTC helicopter fleet, the FAA conducted an audit of the records of all known RCTC holders.

As part of this audit, the FAA elevated its efforts to contact and review all of the RCTC holders for up-to-date information on their RCTC including the number of helicopters, the serial numbers (S/N), and the operators of those helicopters. This effort has revealed that there are helicopters listed on the FAA Aircraft Registry for which there is no COS management and oversight by the TC holder. The audit also revealed that there are many RCTC's that have been sold and not properly transferred to the new owner. Contacts with some RCTC holders also revealed that there were some certificates that were intentionally not managed for various reasons, however the RCTC was not surrendered. As part of the audit, the FAA also discovered that several RCTC holders could not be located and in some cases there were no active aircraft listed in the FAA Registry for certain RCTC's and in other cases there are active aircraft listed in the FAA Registry. The FAA attempted to contact and locate all of these RCTC holders by phone, certified letter, and Internet search. Several RCTC holders could not be located and have never contacted the FAA after obtaining the TC for their aircraft.

Discussion: The basis for issuance of a TC for a Restricted Category helicopter not only includes various reports and data, it requires that the applicant submit information about periodic inspections and maintenance to assure the continued operational safety of the helicopter. These TC holders are also required to meet certain COS requirements regardless of who owns or operates the aircraft. The FAA continues to monitor the safety performance of a helicopter design even after the type design is approved and the aircraft is introduced into service. This is accomplished through post-certification design reviews, various safety reports and data, discussions with operators, and reports from the TC holder.

COS oversight and management is a safety requirement for every individual helicopter. This action is part of the FAA's continuing effort to oversee TC holder COS management of the aircraft on their TCs issued in the restricted category and to provide current information to the public as to the status of these TCs.

The COS responsibilities of aircraft certificated by the FAA require that the TC holder remain in contact with all owners and operators of their aircraft in order to meet their regulatory safety obligations. For example, 14 CFR 21.3 requires that the TC holder report certain failures, malfunctions, or defects to the FAA within 24 hours after it has been determined to be a reportable occurrence. That regulation also requires that if action is required to correct the defect, the data necessary for the issuance of an appropriate airworthiness directive shall also be submitted. In addition, the regulations make it clear that Instructions for Continuing Airworthiness, as well as appropriate approved design changes to a type-certificated aircraft that will contribute to the safety of a product, shall be made available to all owners and operators of that product.

Since several TC holders cannot be located or contacted, the FAA cannot perform its auditing oversight function and determine whether the TC holder is in compliance with the regulatory requirements. Therefore, the TC holders that can not be located and are not properly managing the COS aspects of the helicopters listed on their TC are in default of their FAA regulatory obligations. Hence, the FAA proposes to “flag” their TC and consider it abandoned. This notice is intended as notification to the public that the FAA intends to designate those TCs as abandoned and no additional original airworthiness certificates will be issued against these TCs designated as abandoned. There are FAA procedures in place to accommodate the transfer or surrender of a TC.

To properly transfer a TC, FAA order 8110.4B, dated April 24, 2000, and 14 CFR 21.47 requires that the grantor, within thirty (30) days after the transfer of the TC, shall notify in writing the appropriate FAA Aircraft Certification Office. This notification must state the name and address of the transferee or licensee, date of the transaction, and in the case of a licensing agreement, the extent of authority granted the licensee. The recipient of a transferred TC accedes to all the privileges and all the responsibilities of the transferring TC holder, which includes the continued airworthiness responsibilities for all aircraft covered by that TC. Also, when a TC is transferred, FAA Order 8110.4B, dated April 24, 2000, states that the TC will be reissued. The proper procedures for transferring a TC are contained in FAA Order 8110.4B, dated April 24, 2000.

The surrender of a TC for cancellation renders it ineffective. Upon surrender of a TC for cancellation, all associated privileges, such as those stated in 14 CFR 21.45, are extinguished. If a TC is surrendered for cancellation, no further aircraft may be placed on the TC. However, the TC surrender does not affect adversely the eligibility of any aircraft to seek conformity to another TC or eligibility for issuance of an airworthiness certificate if conformity can be established. To be airworthy, an aircraft must conform to its TC (or Supplemental Type Certificate), including its approved type design and applicable airworthiness directives, and must be in a condition for safe operation (49 USC 44704(d); 14 CFR 21.41).

In order to meet the COS requirements of the FAA regulations, any owner or operator of a helicopter certificated under any of the cited type certificates that the FAA designates as abandoned, is encouraged to apply for their own type certificate in accordance with the applicable FAA Regulations or they may, with concurrence from another TC holder, conform their helicopter to that TC and add it to that COS-managed TC.

Dated: Issued in Fort Worth, Texas on July 23, 2003.
Kim Smith,
Acting Manager, Rotorcraft Directorate, Aircraft Certification Service.

[FR Doc. 03-19527 Filed 8-7-03; 8:45 am]

BILLING CODE 4910-13-M